ENVIRONMENTAL PROTECTION AGENCY

[ER-FRL-6653-4]

Environmental Impact Statements; Notice of Availability

Responsible Agency: Office of Federal Activities, General Information (202) 564-7167 or http://www.epa.gov/compliance/nepa/.

Weekly receipt of Environmental Impact Statements

Filed June 28, 2004, Through July 2, 2004

Pursuant to 40 CFR 1506.9.

EIS No. 040302, Final Supplement, AFS, OR, Rimrock Ecosystem Restoration Projects, New Information on the Commercial and Non-commercial Thinning Treatments in the C3 Management Area, Umatilla National Forest, Heppner Ranger District, Grant, Morrow and Wheeler Counties, OR, Wait Period Ends: August 9, 2004, Contact: David S. Herr (541) 278-3869.

EIS No. 040303, Final EIS, NPS, MT, Glacier National Park Commercial Services Plan, General Management Plan, Implementation, Glacier National Park, a Portion of Waterton-Glacier International Peace Park, Flathead and Glacier Counties, MT, Wait Period Ends: August 9, 2004, Contact: Mary Riddle (406) 888-7898.

EIS No. 040304, Final EIS, FHW, NE, SD, U.S. 81 Highway, Yankton Bridge Replacement, Missouri River Crossing between the City of Yankton, Yankton County, South Dakota and Cedar County, Nebraska, Funding and Permit Issuance, SD and NE, Wait Period Ends: August 9, 2004, Contact: Edward Kosola (402) 437-5521.

EIS No. 040305, Final EIS, FRC, AK, Glacier Bay National Park and Preserve, Falls Creek Hydroelectric Project (FERC. NO. 11659) and Land Exchange Project, Issuance of License and Land Exchange, Kahtaheena River (Falls Creek) near Gustavus in Southeastern, AK, Wait Period Ends: August 9, 2004, Contact: Robert Easton (202) 502-6045.

EIS No. 040306, Final EIS, IBW, TX, NM, Rio Grande Canalization Project (RGCP), Long-Term River Management Alternatives Practices, Implementation, from below Percha Dam in Sierra County, NM to American Dam in El Paso, TX, Wait Period Ends: August 9, 2004, Contact: Douglas Echlin (915) 832-4741.

EIS No. 040307, Final EIS, DOE, OR, COB Energy Facility, Proposes to Construct a 1,160-megawatt (MW) Natural Gas-Fired and Combined-Cycle Electric Generating Plant, Right-of-Way Permit cross Federal Land under the Jurisdiction of BLM, Klamath Basin, Klamath County, OR, Wait Period Ends: August 9, 2004, Contact: Thomas C. McKinney (503) 230-4749.

EIS No. 040308, Final EIS, AFS, AK, Threemile Timber Sale, Implementation, Petersburg Ranger District, Tongass National Forest, AK, Wait Period Ends: August 9, 2004, Contact: Jim Brainard (907) 772-3871.

EIS No. 040309, Final EIS, NRC, IL, Dresden Nuclear Power Station, Units 2 and 3, Supplement 17, NUREG 1437, Renewal of a Nuclear Power Plant Operating License, Grundy County, IL, Wait Period Ends: August 9, 2004, Contact: James Wilson (301) 415-1108.

EIS No. 040310, Final EIS, AFS, KY, Gray Mountain Coal Lease Land Use Analysis, Application for Leasing Tracts 3094Bb, 3049Be and 3049Az, Daniel Boone National Forest, Leslie County, KY, Wait Period Ends: August 9, 2004, Contact: Corey Miller (859) 745-3149.

EIS No. 040311, Final EIS, AFS, MT, Pipestone Timber Sale and Restoration Project, Timber Harvest, Prescribed Fire Burning, Watershed Restoration and Associated Activities, Kootenai National Forest, Libby Ranger District, Lincoln County, MT, Wait Period Ends: August 9, 2004, Contact: Leslie Ferguson (406) 283-7568.

EIS No. 040312, Final EIS, NRC, IL, Quad Cities Nuclear Power Station Units 1 and 2, Supplement 16 to NUREG-1437, License Renewal, IL, Wait Period Ends: August 9, 2004, Contact: Louis L. Wheeler (301) 415-1444.

EIS No. 040313, Draft EIS, COE, LA, Programmatic—EIS Louisiana Coastal Area (LCA) Ecosystem Restoration Study, Implementation, Tentatively Selected Plan, Mississippi River, LA, Comment Period Ends: August 23, 2004, Contact: William P. Klein (504) 862-2540.

EIS No. 040314, Final EIS, COE, PR, Port of The Americas Project, Development of a Deep-Draft Terminal at the Port of Ponce to Receive Post-Panamax Ships, COE Section 10 and 404 Permits, Municipalities of Guayanilla-Penuelas and Ponce, Puerto Rico, Wait Period Ends: August 9, 2004, Contact: Jose E. Rosario (787) 729-6905.

EIS No. 040315, Final EIS, AFS, ID, South Fork Wildfire Salvage Project, Harvesting Fire-Killed and Imminently Dead Trees, Cascade Ranger District, Boise National Forest, Valley County, ID, Wait Period Ends: August 9, 2004, Contact: Keith Dimmett (208) 382-7430.

Dated: July 6, 2004.
Ken Mittelholtz,
Environmental Protection Specialist, Office of Federal Activities.

[FR Doc. 04-15621 Filed 7-8-04; 8:45 am]

BILLING CODE 6560-50-P